DEPARTMENT OF JUSTICE

Notice of Lodging of Consent Decree Under Safe Drinking Water Act

In accordance with Departmental Policy, 28 CFR 50.7, notice is hereby given that on February 22, 2002, a proposed consent decree in United States v. Arturo C. Muro and Manuela B. Muro, Case No. 00cv1484-B(POR) was lodged with the United States District Court for the Southern District of California.

This consent decree represents a settlement of claims brought against Arturo C. Muro and Manuela B. Muro, in a civil complaint that was filed on July 25, 2000, for violations of the Safe Drinking Water Act, 42 U.S.C. 300f to 300j-26 (the “SDWA”), at a trailer park that is owned and operated by the Muros in the County of San Diego, California. The complaint alleged that the Muros failed to comply with a Finding Of Imminent And Substantial Endangerment To The Health Of Persons And Administrative Order (Docket No. PWS-EO-99-004) (the “Emergency Administrative Order”) that the United States Environmental Protection Agency (“EPA”) had issued on May 21, 1999, pursuant to the SDWA, 42 U.S.C. 300i(a). EPA had issued the Emergency Administrative Order because contaminants, including total coliform bacteria and E. coli bacteria (i.e., fecal coliform), present in and likely to enter a public water system owned and/or operated by the Muros may have presented an imminent and substantial endangerment to the health of persons who were or might have been users of the public water system, because the public water system and the accompanying wastewater system suffered from serious deficiencies which were a likely source of contamination of the water provided by the public water system, and because EPA had determined that the directives contained in the Emergency Administrative Order were necessary in order to protect the health of persons who were or might have been users of the public water system. The complaint sought: (1) Enforcement of the Emergency Administrative Order; (2) assessment of civil penalties for repeated and continuing violations of the Emergency Administrative Order; and (3) abatement of conditions that presented an imminent and substantial endangerment to the health of persons who were or might have been users of the Muros' public water system.

The proposed consent decree requires the Muros to, among other things: (1) Refrain from operating or allowing any other individual or entity to operate any public water system, as that term is defined in the SDWA, or providing or allowing any other individual or entity to provide water by any means, at the Muro's trailer park for any purpose until EPA grants written permission in accordance with the terms of the consent decree; (2) take all necessary actions to ensure that third parties do not interfere with the operation of any public water system that EPA may authorize the Muros to operate at the Muros' trailer park pursuant to the consent decree; (3) take all necessary actions to ensure that third parties do not violate, or cause the Muros to violate, any of the terms of the consent decree; (4) if EPA authorizes the Muros to operate any public water system at the Muro's trailer park in accordance with the terms of the consent decree, the Muros shall thereafter comply with all applicable requirements of the SDWA, its implementing regulations, and certain other requirements set forth in the consent decree; (5) pay a stipulated civil penalty of $500.00 for past violations of the Emergency Administrative Order; and (6) pay stipulated civil penalties for each future violation of any requirement or deadline of the consent decree.

The Department of Justice will receive comments relating to the consent decree for a period of thirty (30) days from the date of this publication. Comments should be addressed to the Assistant Attorney General, Environment and Natural Resources Division, P.O. Box 7611, U.S. Department of Justice, Washington, DC 20044-7611, and should refer to United States v. Arturo C. Muro and Manuela B. Muro, Case No. 00cv1484- B(POR), DOJ Ref. No. 90-5-1-1-07113. A copy of all comments also should be sent to Peter J. Sholl, Assistant U.S. Attorney, Office of the U.S. Attorney, 880 Front Street, Room 6293, San Diego, California 92101.

The consent decree may be examined at the Office of the United States Attorney, 880 Front Street, Room 6293, San Diego, California 92101, and at the United States Environmental Protection Agency, Region IX, 75 Hawthorne Street, San Francisco, California 94105. A copy of the consent decree may also be obtained by mail from the Consent Decree Library, P.O. Box 7611, U.S. Department of Justice, Washington, DC 20044-7611, or by faxing a request to Tonia Fleetwood at facsimile number (202) 514-0097, telephone confirmation number (202) 514-1547. In requesting a copy, please refer to United States v. Arturo C. Muro and Manuela B. Muro, Case No. 00cv1484-B(POR), DOJ Ref. No. 90-5-1-1-07113, and enclose a check in the amount of $8.25 (25 cents per page reproduction cost) payable to the U.S. Treasury.

Ellen M. Mahan,
Assistant Section Chief, Environmental Enforcement Section.

[FR Doc. 02-5672 Filed 3-8-02; 8:45 am]

BILLING CODE 4410-15-M